DEPARTMENT OF COMMERCE

Foreign-Trade Zones Board

[Order No. 1314]

Expansion of Foreign-Trade Zone 93, Research Triangle Park, North Carolina, Area

Pursuant to its authority under the Foreign-Trade Zones Act of June 18, 1934, as amended (19 U.S.C. 81a-81u), the Foreign-Trade Zones Board (the Board) adopts the following Order:

Whereas, the Triangle J Council of Governments, grantee of Foreign-Trade Zone 93, submitted an application to the Board for authority to expand FTZ 93 to include on a permanent basis the area within Temporary Site 1A (85 acres) located at the World Trade Park adjacent to Raleigh-Durham International Airport, and to replace existing Site 3 with a new Site 3 (240 acres) located at the Holly Springs Business Park in Holly Springs, North Carolina, within the Raleigh-Durham Customs port of entry (FTZ Docket 31-2003; filed 6/18/03);

Whereas, notice inviting public comment was given in the Federal Register (68 FR 38010, 6/26/03) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 93 is approved, subject to the Act and the Board's regulations, including Section 400.28.

Signed at Washington, DC, this 30th day of December 2003.
James J. Jochum,
Assistant Secretary of Commerce for Import Administration, Alternate Chairman, Foreign-Trade Zones Board.
Attest:
Dennis Puccinelli,
Executive Secretary.

[FR Doc. 04-702 Filed 1-12-04; 8:45 am]

BILLING CODE 3510-DS-P